DEPARTMENT OF HEALTH AND HUMAN SERVICES

Administration for Children and Families

Proposed Information Collection Activity; Comment Request

Title: Head Start Family and Child Experiences Survey (FACES).

OMB No.: 0970-0151.

Description: The Office of Planning, Research and Evaluation (OPRE), Administration for Children and Families (ACF), U.S. Department of Health and Human Services (HHS), is proposing to collect data for a new round of the Head Start Family and Child Experiences Survey (FACES). Featuring a new “Core Plus” Study design, FACES 2014-2018 will provide data on a set of key indicators, including information for performance measures, more rapidly and with greater frequency (Core Studies) and serve as a vehicle for studying more complex issues and topics in greater detail and with increased efficiency (Plus Studies). In fall 2014 and spring 2015, FACES will assess the school readiness skills of 2,400 Head Start children, survey their parents, and ask their Head Start teachers to rate children's social and emotional skills. In spring 2015 and again in spring 2017, the number of programs in the FACES sample will increase from the 60 that are used to collect data on children's school readiness outcomes to 180 for the purpose of conducting observations in 720 Head Start classrooms. Program director, center director, and teacher surveys will also be conducted in the spring. Plus features include additional survey content of policy or programmatic interest, which may include more programs being sampled. This notice is specific to the data collection activities needed to recruit Head Start programs and centers into FACES 2014-2018. A future notice will provide information about data collection for the Core and Plus studies.

A total of 230 Head Start programs and 460 Head Start centers will be selected to participate in FACES 2014-2018. The Core Study will include a nationally representative sample of 180 programs, with up to 50 additional programs potentially selected for Plus studies. For the Core, the 60 programs participating in the Core child-level data collection will be contacted and recruited for the study in spring 2014. In fall 2014, the remaining 120 programs will be contacted. All 180 programs will be contacted a second time in fall 2016 to confirm their continued participation in the Core spring 2017 data collection. The 50 Plus study programs would be recruited at a similar time as the Core study programs (i.e., spring 2014 or fall 2014/2016) depending on the nature of the study being conducted.

The method of data collection for recruitment of all programs will include telephone conversations with program directors and on-site coordinators who serve as liaisons between the FACES study team and the Head Start centers. These calls will inform program staff about the purpose of the study and will gather lists of centers in each program in order to compile the center sampling frame.

The purpose of this data collection is to support the 2007 reauthorization of the Head Start program (Pub. L. 110-134), which calls for periodic assessments of Head Start's quality and effectiveness.

Respondents: Head Start Program Directors and Staff.

ANNUAL BURDEN ESTIMATES
Instrument | Total number of respondents | Number of responses per respondent | Average burden hour per response | Estimated total burden hours | Estimated annual burden hours
Telephone script for program directors | 230 | 2 | 1 | 460 | 154
Telephone script for on-site coordinators | 230 | 2 | .75 | 345 | 115
Total |  |  |  | 805 | 269

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Karl Koerper,
OPRE Reports Clearance Officer.

[FR Doc. 2013-29668 Filed 12-11-13; 8:45 am]

BILLING CODE 4184-22-P